DEPARTMENT OF TRANSPORTATION

Maritime Administration

[Docket Number: MARAD-2002-11452]

Requested Administrative Waiver of the Coastwise Trade Laws

AGENCY: Maritime Administration, Department of Transportation.

ACTION: Invitation for public comments on a requested administrative waiver of the Coastwise Trade Laws for the vessel FIN'S & PINS.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before March 8, 2002.

ADDRESSES: Comments should refer to docket number MARAD-2002-11452. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., e.t., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-Build Requirement

(1) Name of vessel and owner for which waiver is requested. Name of vessel: FIN'S & PINS. Owner: Mr. Howard Rettberg and Raquel Rettberg.

(2) Size, capacity and tonnage of vessel. According to the applicant: “The boat size is 44.1 feet in length and weighs 31,000 gross.”

(3) Intended use for vessel, including geographic region of intended operation and trade. According to the applicant:

The vessel has been equipped for the specific purpose of operating as a commercial sport fishing vessel. * * * The vessel will be primarily based in San Diego, California and operate south into Mexican waters up to 300 miles and North to the waters off of Moro Bay California.

(4) Date and Place of construction and (if applicable) rebuilding. Date of construction: 1985. Place of construction: Kaohsiung, Taiwan, Republic of China.

(5) A statement on the impact this waiver will have on other commercial passenger vessel operators. According to the applicant:

There is currently operating in the Southern California area approximately 18 Six Pac Sport Fishing Boats that conduct the same fishing operation as contemplated by applicant. There should be no impact as the skipper/operators Ron Baker has been in this business or operating a Six PAC Sport Vessel for the last two years on another boat. Captain Ron Baker is simply seeking to switch boats and continue a business that already exists. No new business is being started.

(6) A statement on the impact this waiver will have on U.S. shipyards. According to the applicant:

A Six Pac Sport fishing operation does not generate enough cash flow for any of the operators in Southern California to purchase a large new boat. They all operate used vessels. * * * The boat will receive service and repair only at a ship yard in Southern California. The twin Caterpillar engines on board the boat that power the vessel are made in the USA and will require US made parts and service. The boat has been upgraded substantially with materials made and purchased in the USA.

By Order of the Maritime Administrator.
Dated: January 31, 2002.
Murray A. Bloom,
Acting Secretary, Maritime Administration.

[FR Doc. 02-2795 Filed 2-5-02; 8:45 am]

BILLING CODE 4910-81-P